DEPARTMENT OF AGRICULTURE

Food and Nutrition Service

Privacy Act of 1974; Computer Matching Program

AGENCY: Food and Nutrition Service (FNS), USDA.

ACTION: Notice of reestablished matching program.

SUMMARY: In accordance with the Privacy Act of 1974, the U.S. Department of Agriculture (USDA) Food and Nutrition Service (FNS) is providing notice of a reestablished computer matching program between FNS and the State agencies that administer the Supplemental Nutrition Assistance Program (SNAP). The matching program allows State agencies access to the Electronic Disqualified Recipient System (eDRS), a national database operated by FNS. The system maintains records of SNAP disqualifications imposed by State agencies on individuals who have been found to have committed an intentional program violation (IPV). State agencies need access to nationwide disqualification information to meet program integrity requirements because a disqualification in any State applies to SNAP nationally. Matches against eDRS enhance program integrity by providing State agencies assistance in determining eligibility for SNAP benefits and the proper disqualification length when imposing a new disqualification.

DATES: The deadline for comments on this notice is February 3, 2021. The effective date of the reestablished matching program will be not sooner than 30 days from the publication of this notice, provided no comments are received that result in a contrary determination. The matching program will be conducted for an initial term of 18 months and, within three months of expiration, may be renewed for one additional year if the parties make no change to the matching program and certify that the program has been conducted in compliance with the agreement.

ADDRESSES: Interested parties may submit written comments on this notice to Maribelle Balbes, Chief, State Administration Branch, Program Accountability and Administration Division, SNAP, by email at SM.FN.SNAPSAB@usda.gov, or by mail at 1320 Braddock Place, Alexandria, Virginia 22314.

FOR FURTHER INFORMATION CONTACT: If you have questions about the matching program, you may contact Maribelle Balbes, (703) 605-4272.

SUPPLEMENTARY INFORMATION: The Privacy Act of 1974, as amended, 5 U.S.C. 552a, provides certain protections for individuals applying for and receiving federal benefits. The law governs the use of computer matching by federal agencies when records in a system of records, which contains information about individuals that are retrieved by name or other personal identifier, are matched with records of other Federal, State, or local government records. The Privacy Act requires agencies involved in a matching program to:

1. Obtain approval of a Computer Matching Agreement, prepared in accordance with the Privacy Act, by the Data Integrity Board of any Federal agency participating in a matching program.

2. Enter into a written Computer Matching Agreement.

3. Provide a report of the matching program to Congress and the Office of Management and Budget (OMB), and make it available to the public, as required by 5 U.S.C. 552a(o), (u)(3)(A), and (u)(4).

4. Publish a notice of the matching program in the Federal Register as required by 5 U.S.C. 552a(e)(12) after OMB and Congress complete their review of the report, as provided by OMB Circular A-108, Federal Agency Responsibilities for Review, Reporting, and Publication under the Privacy Act.

5. Notify the individuals whose information will be used in the matching program that the information they provide is subject to verification through matching, as required by 5 U.S.C. 552a(o)(1)(D).

6. Verify match findings before suspending, terminating, reducing, or making a final denial of an individual's benefits or payments or taking other adverse action against the individual, as required by 5 U.S.C. 552a(p).

This matching program meets these requirements.

Participating Agencies: FNS and the State agencies that administer SNAP to include all 50 States, the District of Columbia, and the territories of Guam and the U.S. Virgin Islands.

Authority for Conducting the Matching Program: The Food and Nutrition Act of 2008 (the Act), as amended, 7 U.S.C. 2015(b), provides the legal authority for conducting the matching program. Section 6(b) of the Act, prescribes mandatory periods of ineligibility for persons found to have committed an IPV such as fraud, misrepresentation, or other violation of statute or regulation in connection with SNAP. Section 6(b)(4) prescribes regulations to ensure that appropriate State and Federal entities forward information concerning determinations arising out of such proscribed activity by a specific individual.

Purpose: The eDRS matching program maintains program integrity and reduces payment errors by providing information to assist State agencies with establishing or verifying the eligibility of individuals for SNAP benefits and determining the appropriate disqualification period to be imposed for a new IPV as required in regulations at 7 CFR 273.16, Disqualification for intentional Program violation. Each State agency must submit information about individuals who have been disqualified from SNAP within their State to eDRS. As a participant in this matching program, each State agency has access to this national system to both submit the required information for their State and perform the required matches against information provided by all State agencies.

Categories of Individuals: SNAP applicants and new household members are matched against eDRS as part of the eligibility determination process to ensure the individual is not currently disqualified from receiving benefits due to an IPV. Individuals who are being disqualified by a State agency due to a new IPV finding are matched against eDRS to assist the State agency in determining the appropriate duration of the new disqualification.

Categories of Records: The data elements in eDRS provide information about individuals who have been disqualified, the disqualification details, and the agency that imposed the disqualification. State agencies submit this information about disqualifications imposed in their State and this information is then available to all participating State agencies with access to eDRS. State agencies use personally identifying information to search eDRS for the individual being matched.

1. Information about the disqualified individual:

• Name

• Social security number or alternative ID

• Date of birth

• Gender

• Alias

2. Disqualification details:

• Disqualification number

• Disqualification decision date

• Disqualification start date

• Duration of disqualification period

• Offense code

3. Agency information:

• Locality code

• Locality contact name, title, location, and phone number

System of Records: The system of records for this data exchange comprising eDRS is USDA/FNS-5, Information on Persons Disqualified from the Supplemental Nutrition Assistance Program, 75 FR 81205 (Dec. 27, 2010). This data exchange is authorized under routine uses.

Pamilyn Miller,
Administrator, Food and Nutrition Service.

[FR Doc. 2020-29004 Filed 12-31-20; 8:45 am]

BILLING CODE 3410-30-P